DEPARTMENT OF THE TREASURY

United States Mint

National Baseball Hall of Fame Commemorative Coin Program Design Competition

ACTION: Notification of the Opening of the National Baseball Hall of Fame Commemorative Coin Program Design Competition on April 11, 2013.

SUMMARY: The United States Mint announces the opening of a national coin design competition that will culminate in the Secretary of the Treasury's selection of the image for the obverse (heads side) of the 2014 National Baseball Hall of Fame Commemorative Coins. The competition, which is open to all United States citizens and permanent residents ages 14 and over, begins on April 11, 2013, at 12 noon Eastern Daylight Time (EDT). The submission period will end at 12 noon EDT on April 26, 2013, if 10,000 or more entries have been received by that time. If fewer than 10,000 entries have been received by 12 noon EDT on April 26, 2013, then the submission period will remain open until 10,000 entries have been received, but will end no later than May 11, 2013, at 12 noon EDT. The winner of the design competition will be awarded $5,000, and the winner's initials will appear on the minted coins.

The National Baseball Hall of Fame Commemorative Coin Act (Act), Public Law 112-152 (Aug. 3, 2012), requires the Secretary of the Treasury to mint and issue three 2014 commemorative coins to recognize and celebrate the National Baseball Hall of Fame: up to 50,000 $5 gold coins, up to 400,000 $1 silver coins, and up to 750,000 half-dollar clad coins. The Act requires a competition, which Challenge.gov is hosting, to select a common obverse design emblematic of the game of baseball. Additionally, the Act expresses Congress's sense that the $5 gold and $1 silver coins have a shape such that the obverse is concave and the reverse is convex.

Entries will be evaluated during a selection process consisting of an initial screening for minimum requirements and four evaluation rounds. The Citizens Coinage Advisory Committee, the U.S. Commission of Fine Arts, and the National Baseball Hall of Fame will review the finalist designs, after which the United States Mint will put forward a recommended design to the Secretary of the Treasury for selection.

Official rules, guidelines, and entry instructions for the United States Mint National Baseball Hall of Fame Commemorative Coin Program Design Competition can be found at www.usmint.gov/batterup and at www.batterup.challenge.gov.

FOR FURTHER INFORMATION CONTACT: The United States Mint's Competition Administrator is Leslie Schwager, Program Specialist. She can be reached at baseballcompetition@usmint.treas.gov.

Authority: National Baseball Hall of Fame Commemorative Coin Act, Public Law 112-152.

Dated: March 27, 2013.
David Motl,
Chief Financial Officer, United States Mint.

[FR Doc. 2013-07622 Filed 4-1-13; 8:45 am]

BILLING CODE P